DEPARTMENT OF ENERGY

Federal Energy Regulatory Commission

[Docket Nos. EC06-52-000, et al.]

Cadillac Renewable Energy, LLC, et al.; Electric Rate and Corporate Filings

March 2, 2006.

The following filings have been made with the Commission. The filings are listed in ascending order within each docket classification.

1. Cadillac Renewable Energy LLC; NRG Cadillac, Inc.; Seville Energy LLC

[Docket No. EC06-52-001]

Take notice that on February 22, 2006, Cadillac Renewable Energy LLC, NRG Cadillac, Inc. and Seville Energy LLC (Applicants) submitted an Amendment to the Application pursuant to section 203 of the Federal Power Act for authorization of disposition of jurisdictional facilities.

Comment Date: 5 p.m. Eastern Time on March 8, 2006.

2. San Diego Gas & Electric Company v. Seller of Energy and Ancillary Services Into Markets Operated by the California Independent System Operator Corporation and the California Power Exchange; Investigation of Practices of the California Independent System Operator Corporation and the California Power Exchange

[Docket Nos. EL00-95-173 and EL00-98-159]

Take notice that on February 10, 2006, TransAlta Energy Marketing (US) Inc. filed a revised Cost Recovery Analysis with supporting information in compliance with the Commission's Order issued January 26, 2006, in Ordering Paragraph D.

Comment Date: 5 p.m. Eastern Time on March 13, 2006.

3. San Diego Gas & Electric Company v. Seller of Energy and Ancillary Services Into Markets Operated by the California Independent System Operator Corporation and the California Power Exchange; Investigation of Practices of the California Independent System Operator Corporation and the California Power Exchange

[Docket Nos. EL00-95-176 and EL00-98-162]

Take notice that on February 10, 2006, Sempra Energy Trading Corp. filed a Cost Recovery Analysis in compliance with the Commission's Order issued January 26, 2006.

Comment Date: 5 p.m. Eastern Time on March 13, 2006.

4. San Diego Gas & Electric Company v. Seller of Energy and Ancillary Services Into Markets Operated by the California Independent System Operator Corporation and the California Power Exchange; Investigation of Practices of the California Independent System Operator Corporation and the California Power Exchange

[Docket No. EL00-95-177 and EL00-98-163]

Take notice that on February 10, 2006, Avista Energy, Inc. filed a Cost Recovery Analysis in compliance with the Commission's Order issued January 26, 2006.

Comment Date: 5 p.m. Eastern Time on March 13, 2006.

5. New York Independent System Operator, Inc.

[Docket No. ER06-310-001]

Take notice that on February 21, 2006, the New York Independent System Operator, Inc. (NYISO) tendered for filing response to questions posed by a deficiency letter order on January 27, 2006.

Comment Date: 5 p.m. Eastern Time on March 9, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-3275 Filed 3-7-06; 8:45 am]

BILLING CODE 6717-01-P